DEPARTMENT OF STATE

[Public Notice 7822]

60-Day Notice of Proposed Information Collection: DS-158, Contact Information and Work History for Nonimmigrant Visa Applicant

ACTION: Notice of request for public comments.

SUMMARY: The Department of State is seeking Office of Management and Budget (OMB) approval for the information collection described below. The purpose of this notice is to allow 60 days for public comment in the Federal Register preceding submission to OMB. We are conducting this process in accordance with the Paperwork Reduction Act of 1995.

• Title of Information Collection: Contact Information and Work History for Nonimmigrant Visa Applicant.

• OMB Control Number: 1405-0144.

• Type of Request: Extension of a Currently Approved Collection.

• Originating Office: CA/VO/L/R.

• Form Number: DS-158.

• Respondents: Nonimmigrant Visa Applicants.

• Estimated Number of Respondents: 10,000.

• Estimated Number of Responses: 10,000.

• Average Hours per Response: 1 hour.

• Total Estimated Burden: 10,000.

• Frequency: One time per visa application.

• Obligation to Respond: Required to Obtain or Retain a Benefit.

DATES: The Department will accept comments from the public up to 60 days from March 2, 2012.

ADDRESSES: You may submit comments by any of the following methods:

• Web: Persons with access to the Internet may view and comment on this notice by going to the Federal regulations Web site at: www.regulations.gov. You can search for the document by: selecting “Notice” under Document Type, entering the Public Notice number as the “Keyword or ID”, checking the “Open for Comment” box, and then click “Search”. If necessary, use the “Narrow by Agency” option on the Results page.

• Mail (paper, or CD submissions): Chief, Legislation and Regulations Division, Visa Services DS-158, 2401 E Street NW., Washington DC 20520-0160.

You must include the DS form number (if applicable), information collection title, and OMB control number in any correspondence.

FOR FURTHER INFORMATION CONTACT: Direct requests for additional information regarding the collection listed in this notice, including requests for copies of the proposed information collection and supporting documents, to Sydney Taylor, Visa Services, U.S. Department of State, 2401 E Street NW., L-603, Washington, DC 20520-0106, who may be reached on (202) 663-3721.

SUPPLEMENTARY INFORMATION: We are soliciting public comments to permit the Department to:

• Evaluate whether the proposed information collection is necessary for the proper performance of our functions.

• Evaluate the accuracy of our estimate of the burden of the proposed collection, including the validity of the methodology and assumptions used.

• Enhance the quality, utility, and clarity of the information to be collected.

• Minimize the reporting burden on those who are to respond, including the use of automated collection techniques or other forms of technology.

Abstract of proposed collection: This form collects contact information, current employment information, and previous work experience information from aliens applying for nonimmigrant visas to enter the United States. The information collected is necessary to determine eligibility for certain visa classifications.

Methodology: Applicants may fill out the DS-158 online or print the page and fill it out by hand, and submit it in person at the time of interview.

Dated: February 22, 2012.
David T. Donahue,
Deputy Assistant Secretary, Bureau of Consular Affairs, Department of State.

[FR Doc. 2012-5125 Filed 3-1-12; 8:45 am]

BILLING CODE 4710-06-P